ENVIRONMENTAL PROTECTION AGENCY

[EPA-HQ-OAR-2009-0234; FRL-8979-6]

Agency Information Collection Activities: Submission to OMB for Review and Approval; Comment Request; Information Collection Effort for New and Existing Coal- and Oil-fired Electric Utility Steam Generating Units; EPA ICR No. 2362.01, OMB Control No. 2060-New

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before December 10, 2009.

ADDRESSES: Submit your comments, referencing Docket ID No. EPA-HQ-OAR-2009-0234, to (1) EPA online using http://www.regulations.gov (our preferred method), by e-mail to a-and-r-docket@epa.gov, or by mail to: EPA Docket Center, Environmental Protection Agency, Air and Radiation Docket and Information Center, Mailcode: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: William Maxwell, Energy Strategies Group, Sector Policies and Program Division, D243-01, Environmental Protection Agency, Research Triangle Park, North Carolina 27711; telephone number: (919) 541-5430; fax number: (919) 541-5450; e-mail address: maxwell.bill@epa.gov.

SUPPLEMENTARY INFORMATION: EPA has submitted the following ICR to OMB for review and approval according to the procedures prescribed in 5 CFR 1320.10. On July 2, 2009 (74 FR 31725), EPA sought comments on a draft of this ICR pursuant to 5 CFR 1320.8(d). EPA received 53 comments during the comment period and revised this ICR in response to the comments. Comments received on the July 2, 2009 draft of this ICR and EPA's responses to those comments may be found in the public docket. Any additional comments on this ICR should be submitted to EPA and OMB within 30 days of this notice.

EPA has established a public docket for this ICR under Docket ID No. EPA-HQ-OAR-2009-0234, which is available for online viewing at http://www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at http://www.regulations.gov to submit or view public comments, access the index listing of the contents of the docket, and to access those documents in the docket that are available electronically. Once in the system, select “docket search” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to http://www.regulations.gov.

Title: Information Collection Effort for Coal- and Oil-fired Electric Utility Steam Generating Units.

ICR numbers: EPA ICR No. 2362.01, OMB Control No. 2060-New.

ICR Status: This ICR is for a new information collection activity. An Agency may not conduct or sponsor and a person is not required to respond to a collection of information unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: This information collection will be conducted by EPA's Office of Air and Radiation (OAR) to assist the Administrator of EPA to determine the current population of affected coal- and oil-fired electric utility steam generating units and to develop emission standards for this source category as required by Clean Air Act (CAA) section 112(d).

To obtain the information necessary to identify and categorize all coal- and oil-fired electric utility steam generating units potentially affected by the CAA section 112(d) standard, this ICR will solicit information from all potentially affected units under authority of CAA section 114. EPA intends to provide the survey in electronic format; however, written responses will also be accepted. The survey will be submitted to all facilities identified as being coal- or oil-fired electric utility steam generating units through data bases available to the Agency. EPA envisions allowing recipients 3 months to respond to the survey. To further define the emission level being achieved by the top performing 12 percent of similar sources for the existing population, this ICR requires that certain units conduct emission testing concurrent with the survey. EPA envisions allowing recipients 6 to 8 months to respond to the emission testing requirement.

Burden Statement: The total burden for the coal- and oil-fired electric utility steam generating units' data gathering effort is estimated to be 86,881 hours and $96,541,879 (74 hours and $106,726 per respondent for approximately 1,334 units). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Respondents affected by this action may be owners/operators of coal- and oil-fired electric utility steam generating units as defined under CAA section 112(a)(8).

Estimated Number of Respondents: 531.

Frequency of Response: One time.

Estimated Total Annual Hour Burden: 86,881.

Estimated Total Annual Cost: $96,541,879. This includes an estimated cost of $5,904,197 for the electronic survey component and an estimated cost for the stack testing component of $90,637,682. There are no capital or O&M costs.

Dated: November 3, 2009.
John Moses,
Director, Collection Strategies Division.

[FR Doc. E9-27047 Filed 11-9-09; 8:45 am]

BILLING CODE 6560-50-P